DEPARTMENT OF TRANSPORTATION

Federal Highway Administration

[FHWA Docket No. FHWA-2009-0107]

Express Lanes Demonstration Program—Performance Goals for the Florida Department of Transportation I-595 Express Lanes Project

AGENCY: Federal Highway Administration (FHWA), DOT.

ACTION: Notice; request for comments.

SUMMARY: Section 1604(b)(7) of the Safe, Accountable, Flexible, Efficient Transportation Equity Act: A Legacy for Users (SAFETEA-LU) (Pub. L. 109-59; Aug. 10, 2005), authorizes the Secretary of Transportation (Secretary) to develop and publish performance goals for each express lane project accepted under the Express Lanes Demonstration Program. This notice lists the Performance Goals, Monitoring and Reporting Program requirements for the I-595 Express Lanes project in Fort Lauderdale, in Broward County, in the State of Florida.

DATES: Comments must be received on or before December 3, 2009.

ADDRESSES: Mail or hand deliver comments to: Docket Management Facility, U.S. Department of Transportation, 1200 New Jersey Avenue, SE., Washington, DC 20590, or submit electronically at http://www.regulations.gov, or fax comments to (202) 493-2251.

All comments should include the docket number that appears in the heading of this document. All comments received will be available for examination and copying at the above address from 9 a.m. to 5 p.m., e.t., Monday through Friday, except Federal holidays. Those desiring notification of receipt of comments must include a self-addressed, stamped postcard or may print the acknowledgment page that appears after submitting comments electronically. Anyone is able to search the electronic form of all comments in any one of our dockets by the name of the individual submitting the comment (or signing the comment, if submitted on behalf of an association, business, or labor union). You may review the DOT's complete Privacy Act Statement in the Federal Register published on April 11, 2000 (Volume 65, Number 70, Pages 19477-78), or you may visit http://DocketsInfo.dot.gov.

FOR FURTHER INFORMATION CONTACT: For questions about this notice, contact Mr. Wayne Berman, Office of Operations, (202) 366-4069, (Wayne.Berman@dot.gov); for legal questions contact Mr. Michael Harkins, Attorney Advisor, Office of the Chief Counsel, (202) 366-4928, (Michael.Harkins@dot.gov). The FHWA is located at 1200 New Jersey Avenue, SE., Washington, DC 20590. Office hours are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

Section 1604(b) of SAFETEA-LU, established the Express Lanes Demonstration Program (ELDP). Under the ELDP, the Secretary must carry out 15 demonstration projects during the period of fiscal years 2005 through 2009 to permit States to collect a toll from motor vehicles at eligible facilities. On June 11, 2009, the Florida Department of Transportation (FDOT) submitted applications to the FHWA for tolling authority under the ELDP for the I-595 Express Lanes project in the Fort Lauderdale region of Broward County. After review and analysis, the application was approved on July 1, 2009.

The I-595 Express Lanes will consist of three reversible tolled lanes in the median of I-595 in Broward County, Florida. There are four proposed exchange points within the limits of the I-595 Express Lanes (approximately 10.5 miles in length). The western ingress/egress point is proposed west of Flamingo Road, serving I-75 and Sawgrass Expressway. The eastern location is proposed between Florida's Turnpike and US 441, serving points east of US 441 including I-95. The southern location is proposed along Florida's Turnpike between I-595 and Griffin Road. Finally, the northern location is proposed along Florida's Turnpike between Peters Road and I-595. The eastbound and westbound I-595 general purpose lanes will remain toll-free.

Pursuant to section 1604(b)(7) of SAFETEA-LU, the Secretary, in cooperation with the State, public authority, private entity, and other program participants must develop performance goals for each project and publish such goals for public comment. This notice lists, and solicits public comment on, the Performance Goals, Monitoring and Reporting Programs for the I-595 Express Lanes Project.

Performance Goals, Monitoring and Reporting Program

The following describes the agreed upon ELDP's Performance Goals, Monitoring and Reporting Program for the I-595 Express Lanes Project. This program has been developed cooperatively between FDOT and FHWA.

Performance Goals, Monitoring and Reporting Program

Section 1: Performance Goals

The FHWA and FDOT have identified the following performance goals (“Performance Goals”) for the I-595 Express Lanes. These Performance Goals reflect the priorities for the I-595 Express Lanes at the State and local levels. The Performance Goals also reflect the goals set forth for the ELDP in Section 1604(b) of SAFETEA-LU.

I. Effects on travel, traffic, and air quality.

II. Balance distribution of benefits and burdens among facility users.

III. Introduce and increase use of alternative transportation modes.

IV. Use of revenues to meet transportation or impact mitigation needs.

Section 2: Measuring, Monitoring and Reporting on Achievement of Performance Goals

Section 2.1: Performance Measures

The following core performance measures (“Core Performance Measures”) will be utilized to focus the monitoring and reporting work undertaken to evaluate performance of the I-595 Express Lanes. The one or more Performance Goals to which each Core Performance Measure corresponds are indicated in parenthesis. Specific reporting items for each Core Performance Measure are listed below.

Generally, Express Lane performance will be assessed by reference to baseline values or trends for the reported items under the Core Performance Measures. The methodology for determining each baseline value or trend will be explained in detail in the Performance Monitoring and Evaluation Manual described below.

A. Travel-Time Reliability in I-595 Express Lanes vs. General Purpose Lanes (I, II, III)

i. Report percentage of time that the I-595 Express Lanes are operating at a minimum average speed of 50 miles per hour, broken down into daily averages for the a.m. peak, off-peak, and p.m. peak periods.

ii. Report 95th percentile travel times for the I-595 Express Lanes and general purpose lanes, broken down into daily averages for the a.m. peak, off-peak, and p.m. peak periods. This measure is reported in minutes. (The 95th percentile represents the slowest traffic day each month).

iii. Report the Buffer Index calculated to demonstrate performance in the I-595 Express Lanes and general purpose lanes, broken down into daily averages for the a.m. peak, off-peak, and p.m. peak periods. (The Buffer Index is the extra time that travelers must add to their average travel time when planning trips to ensure on-time arrival. For example, a buffer index of 40 percent means that for a trip that usually takes 20 minutes a traveler should budget an additional 8 minutes to ensure on-time arrival. The 8 extra minutes is called the buffer time. Therefore, the traveler should allow 28 minutes for the trip in order to ensure on-time arrival 95 percent of the time.)

iv. Report traffic volumes and traffic volume changes on a total and percentage-change basis annually, broken into daily averages, for daily total, by a.m. peak, off-peak, and p.m. peak for the I-595 Express Lanes and general purpose lanes by direction.

v. Report traffic speeds and traffic speed differences from the previous year (on a total and percentage-change basis) annually, broken into daily averages, for daily total, by a.m. peak, off-peak, and p.m. peak for the I-595 Express Lanes and general purpose lanes by direction.

vi. Report actual number of incidents and identify the effect on lane availability for the I-595 Express Lanes during this time, including the length of time each such lane was unavailable.

B. Changes in Mode Split/Ridership/Vehicle Occupancies of I-595 Express Lanes vs. General Purpose Lanes (I, II, III)

i. Report volumes by vehicle type for the year and the differences from the previous year (on a total and percentage-change basis), broken into daily averages, by a.m. peak, off-peak, and p.m. peak for the I-595 Express Lanes and the general purpose lanes, as applicable and reasonably available. Express Lane vehicle classifications are: registered carpools, registered buses, registered Inherently Low Emissions Vehicles (ILEV) and hybrid vehicles (as defined in Section 316.0741 Florida Statutes), registered vanpools, and toll-paying customers.

ii. Report average toll charged for the year and differences from the previous year (on a total and percentage-change basis), by vehicle type, broken into daily averages, by a.m. peak, off-peak, and p.m. peak for the I-595 Express Lanes.

iii. If reasonably available, report on the amount of vehicle miles traveled by vehicle type for the year and differences from the previous year (on a total and percentage-change basis). I-595 Express Lanes vehicle classifications are: registered carpools, registered buses, registered ILEV and hybrid vehicles (as defined in Section 316.0741 Florida Statutes), registered vanpools, and toll-paying customers.

C. Transit Schedule Adherence on the I-595 Express Lanes (II, III)

To the extent the information is reasonably available, report on express transit service reliability (percentage of on-time performance of transit service) on express bus transit routes utilizing the I-595 Express Lanes. When reporting on the express bus routes, measurements of ridership, travel time, and reliability should be included.

D. Application of Toll Revenue Reinvestment (II, IV)

Report breakdown of the use of revenues.

E. Change in Criteria Pollutant Emissions for the Region (I)

Report on the concentrations of six criteria pollutants (particle pollution, ground level ozone, carbon monoxide, sulfur oxides, nitrogen oxides, and lead) during the current year and differences from the previous year (on a total and percentage-change basis) utilizing reasonably available and reliable air quality information gathered by Broward County.

Section 2.2. Monitoring and Reporting Program

Prior to commencement of pricing operations on the I-595 Express Lanes, FDOT will prepare a Performance Monitoring and Evaluation Manual document that will describe the information to be collected, the methodology for identifying baseline values, and approach for developing the annual reports that assess Express Lane performance. The manual will serve as a tool to facilitate achievement of the Performance Goals identified in Section E(6) by documenting the program for regular monitoring and reporting to be utilized in the assessment of the Core Performance Measures identified in this Section E(7).

The Performance Monitoring and Evaluation Manual will be in the form of an instruction manual and should address the following subject areas.

A. Project Overview

B. Purpose and Need

C. Organization of Document

D. Overview of Project Goals

E. Overview of Core Performance Measures

i. Key Questions and definition of Core Performance Measures

ii. Description of how specific reported information relates to Core performance Measures and Performance Goals

F. Methodology for Determining Baseline Measurements

G. Annual Monitoring Program Measurement Processes and Procedures

H. Coordination with other Transportation Providers

I. Reference Documentation Listing (as applicable)

The annual monitoring and reporting program measurement processes and procedures will be documented in the Monitoring and Reporting Annual Report that should include the following sections.

A. Project Information

B. Performance Highlights

C. Performance Summary

D. Performance Details

Section 2.3. Timeline and Process for Submission of ELDP Monitoring Report

The annual reporting period for the ELDP is between January 1 and December 31 of each year. Data collected and reported will align with this time period. The first year's data after tolling commences will be data collected from the date of service commencement to December 31 of that year. FDOT's submission to FHWA of the Monitoring and Reporting Annual Report will occur no later than March 31 of each year.

Authority: Section 1604(b)(7) of the Safe, Accountable, Flexible, Efficient Transportation Equity Act: A Legacy for Users (SAFETEA-LU) (Pub. L. 109-59; Aug. 10, 2005).

Issued on: October 23, 2009.
Victor M. Mendez,
Federal Highway Administrator.

[FR Doc. E9-26404 Filed 11-2-09; 8:45 am]

BILLING CODE 4910-22-P